DEPARTMENT OF LABOR

Mine Safety and Health Administration

Petitions for Modification

The following parties have filed petitions to modify the application of existing safety standards under section 101(c) of the Federal Mine Safety and Health Act of 1977.

1. Big Ridge, Inc.

[Docket No. M-2005-067-C]

Big Ridge, Inc., 420 Long Lane Road, Equality, Illinois 62934 has filed a petition to modify the application of 30 CFR 75.901 (Protection of low- and medium-voltage three-phase circuits used underground) to its Willow Lake Mine (MSHA I.D. No. 11-03054) located in Saline County, Illinois. The petitioner proposes to use a 480-volt, three-phase diesel-powered generator to move equipment throughout the Willow Lake Mine. The petitioner asserts that the proposed alternative method would provide at least the same measure of protection as the existing standard.

2. Six M Coal Company

[Docket No. M-2005-068-C]

Six M Coal Company, 482 High Road, Ashland, Pennsylvania 17921 has filed a petition to modify the application of 30 CFR 75.1100-2(a)(2) (Quantity and location of firefighting equipment) to its No. 1 Slope Mine (MSHA I.D. No. 36-09138) located in Dauphin County, Pennsylvania. The petitioner requests a modification of the existing standard to permit the use of portable fire extinguishers to replace existing requirements where rock dust, water cars, and other water storage equipped with three 10 quart pails are not practical. The petitioner proposes to use two portable fire extinguishers near the slope bottom and an additional portable fire extinguisher within 500 feet of the working face for equivalent fire protection at the No. 1 Slope Mine. The petitioner asserts that the proposed alternative method would provide at least the same measure of protection as the existing standard.

3. Twentymile Coal Company

[Docket No. M-2005-069-C]

Twentymile Coal Company, Gateway Center, Suite 1340, 401 Liberty Avenue, Pittsburgh, Pennsylvania 15222 has filed a petition to modify the application of 30 CFR 75.500(d) (Permissible electric equipment) to its Foidel Creek Mine (MSHA I.D. No. 05-03836) located in Routt County, Colorado. The petitioner requests a modification of the existing standard to permit the use of battery-powered non-permissible surveying equipment in or inby the last open crosscut including in the return airways. The petitioner has listed in this petition for modification specific terms and conditions that will be followed when the proposed alternative method is implemented. The petitioner asserts that the proposed alternative method would provide at least the same measure of protection as the existing standard.

4. Twentymile Coal Company

[Docket No. M-2005-070-C]

Twentymile Coal Company, Gateway Center, Suite 1340, 401 Liberty Avenue, Pittsburgh, Pennsylvania 15222 has filed a petition to modify the application of 30 CFR 75.1002(a) (Installation of electric equipment and conductors; permissibility) to its Foidel Creek Mine (MSHA I.D. No. 05-03836) located in Routt County, Colorado. The petitioner requests a modification of the existing standard to permit the use of battery-powered non-permissible surveying equipment on longwall faces or within 150 feet of pillar workings. The petitioner has listed in this petition for modification specific terms and conditions that will be followed when the proposed alternative method is implemented. The petitioner asserts that the proposed alternative method would provide at least the same measure of protection as the existing standard.

Request for Comments

Persons interested in these petitions are encouraged to submit comments via e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before November 23, 2005. Copies of these petitions are available for inspection at that address.

Dated at Arlington, Virginia this 19th day of October 2005.
Rebecca J. Smith,
Acting Director, Office of Standards, Regulations, and Variances.

[FR Doc. 05-21201 Filed 10-21-05; 8:45 am]

BILLING CODE 4510-43-P